DEPARTMENT OF THE INTERIOR

Office of the Secretary

[Docket No. ONRR-2012-0003 DS63600000 DR2PS0000.PX8000 145D0102R2]

Notice of Request for Tribal Nominees for the U.S. Extractive Industries Transparency Initiative (USEITI) Advisory Committee

AGENCY: Policy, Management and Budget, Interior.

ACTION: Notice.

SUMMARY: The U.S. Department of the Interior (Interior) is seeking nominations for individuals to be considered as Committee members and/or alternates to serve on the U.S. Extractive Industries Transparency Initiative (USEITI) Advisory Committee (Committee). This notice solicits nominees representing Tribal governments and individual Indian mineral owners to fill two vacancies in the Government sector. Nominations should include a resume providing relevant contact information and an adequate description of the nominee's qualifications, including information that would enable the Department of the Interior to make an informed decision regarding meeting the membership requirements of the Committee. Nominees are encouraged to include supporting letters from constituencies, associations, Tribal Councils, or other organizations that indicate support for the nominee.

DATES: Submit nominations to the Committee by August 31, 2014.

ADDRESSES: You may submit nominations to the Committee by any of the following methods.

• Mail or hand-carry nominations to Ms. Rosita Compton Christian; Department of the Interior; 1849 C Street NW., MS 4211, Washington, DC 20240.

• Email nominations to USEITI@ios.doi.gov.

FOR FURTHER INFORMATION CONTACT: Rosita Christian at (202) 208-0272 or (202) 513-0597; fax (202) 513-0682; email Rosita.ComptonChristian@onrr.gov or useiti@ios.doi.gov; or via mail at the Department of the Interior; 1849 C Street NW., MS 4211, Washington, DC 20240.

SUPPLEMENTARY INFORMATION: Interior established the Committee on July 26, 2012, in accordance with the provisions of the Federal Advisory Committee Act (FACA), as amended (5 U.S.C. App. 2), and with the concurrence of the General Services Administration. The Committee serves as the USEITI Multi-Stakeholder Group (MSG) and provides advice to the Secretary of the Interior (Secretary) on the design and implementation of the initiative. Specifically, the Committee:

• Serves as the MSG to oversee the U.S. implementation of the Extractive Industries Transparency Initiative (EITI), a global standard for governments to publicly disclose revenues received from oil, gas, and mining assets belonging to the government, with parallel public disclosure by companies of payments to the government (e.g. royalties, rents, bonuses, taxes, or other payments).

• Develops and recommends to the Secretary a fully-costed work plan, containing measurable targets and a timetable for implementation and incorporating an assessement of capacity contraints. This plan will be developed in consultation with key EITI stakeholders and published upon completion.

• Provides opportunities for collaboration and consultation among stakeholders.

• Advises the Secretary and posts for consideration by other stakeholders proposals for conducting long-term oversight and other activities necessary to achieve EITI and compliant status.

The Committee consists of representatives from three stakeholder sectors. However, there currently are no committee members representing Tribal governments or individual Indian mineral owners. The sectors are:

1. Industry, including non-Federal representatives from the extractive industry, including oil, gas, and mining companies and industry-related trade associations.

2. Civil society, including organizations with an interest in extractive industries, transparency, and government oversight; members of the public; and public and/or private investors.

3. Government, including Federal, State, local, and Tribal governments, and individual Indian mineral owners.

Please note, the purpose of this notice is to fill the Tribal or individual Indian mineral owner positions on the government sector of the Committee because these unique perspectives are currently not represented. In addition to honoring the EITI principle of self-selection within the stakeholder sector, the following criteria will be considered in making final selections:

(1) Understanding of and commitment to the EITI process

(2) Ability to collaborate and operate in a multi-stakeholder setting

(3) Access to and support from a relevant stakeholder constituency

(4) Basic understanding of the extractive industry and/or revenue collection, or willingness to be educated on such matters

Individuals who are currently Federally registered lobbyists are ineligible to serve on any FACA and non-FACA boards, committees, or councils.

The Committee will meet quarterly or at the request of the Designated Federal Officer. Non-Federal members of the Committee will serve without compensation. However, we may pay the travel and per diem expenses of Committee members, if appropriate, under the Federal Travel Regulations.

To learn more about USEITI please visit the official Web site at www.doi.gov/eiti.

Dated: June 23, 2014.
Amy Holley,
Chief of Staff—Policy, Management and Budget, Department of the Interior.

[FR Doc. 2014-16336 Filed 7-11-14; 8:45 am]

BILLING CODE 4310-T2-P